DEPARTMENT OF ENERGY

Federal Energy Regulatory Commission

[Docket No. RP03-46-000]

Enbridge Pipelines (UTOS) L.L.C.; Errata Notice

November 20, 2002.

Notice of Filing of Offer of Settlement

November 1, 2002.

In the above referenced proceeding, “Docket No. RP03-44-000” has been changed to “Docket No. RP03-46-000”.

Linwood A. Watson, Jr.,
Deputy Secretary.

[FR Doc. 02-30004 Filed 11-25-02; 8:45 am]

BILLING CODE 6717-01-P